FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, with revision, the Recordkeeping and Disclosure Requirements Associated with the Consumer Financial Protection Bureau's (CFPB) Regulation E (CFPB E; OMB No. 7100-0200).

DATES: The revisions are effective January 7, 2026.

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/review or may be requested from the agency clearance officer, whose name appears above. On the page displayed at the link above, you can find the supporting information by referencing the collection identifier, CFPB E.

Final Approval Under OMB Delegated Authority of the Extension for Three Years, With Revision, of the Following Information Collection

Collection title: Recordkeeping and Disclosure Requirements Associated with the CFPB's Regulation E.

Collection identifier: CFPB E.

OMB control number: 7100-0200.

General description of collection: Board-supervised institutions must provide meaningful disclosures about the basic terms, costs, and rights relating to electronic fund transfer services involving a customer's account and must maintain certain records.

Frequency: Event-generated, monthly, and annually.

Respondents: State member banks and their subsidiaries, subsidiaries of bank holding companies, U.S. branches and agencies of foreign banks (other than federal branches, federal agencies, and insured state branches of foreign banks), commercial lending companies owned or controlled by foreign banks, and organizations operating under section 25 or 25A of the Federal Reserve Act (12 U.S.C. 601-604a; 611-631).

Total estimated number of respondents: 815.

Total estimated change in burden: 0.

Total estimated annual burden hours: 165,426.

Current actions: On July 31, 2025, the Board published a notice in the Federal Register (90 FR 36057) requesting public comment for 60 days on the extension, with revision, of the CFPB E. The Board proposed to revise the CFPB E to account for one recordkeeping provision in Section 1005.13(b) of Regulation E that has not previously been cleared by the Board under the PRA. The comment period for this notice expired on September 29, 2025. The Board did not receive any comments. The revisions will be implemented as proposed.

Board of Governors of the Federal Reserve System, December 4, 2025.
Erin M. Cayce,
Assistant Secretary of the Board.

[FR Doc. 2025-22258 Filed 12-5-25; 8:45 am]

BILLING CODE 6210-01-P